DEPARTMENT OF THE INTERIOR

Fish and Wildlife Service

[FWS-R4-R-2008-N0180; 40136-1265-0000-S3]

Delta and Breton National Wildlife Refuges, Louisiana

AGENCY: Fish and Wildlife Service, Interior.

ACTION: Notice of availability.

SUMMARY: The Fish and Wildlife Service announces that a Draft Comprehensive Conservation Plan and Environmental Assessment (Draft CCP/EA) for Delta National Wildlife Refuge in Plaquemines Parish, Louisiana, and Breton National Wildlife Refuge in St. Bernard and Plaquemines Parishes, Louisiana, is available for distribution. This document was prepared pursuant to the National Wildlife Refuge System Improvement Act of 1997, and the National Environmental Policy Act of 1969. The Draft CCP/EA describes the Service's proposal for management of the refuge for 15 years.

DATES: Written comments must be received at the postal address listed below no later than August 11, 2008.

ADDRESSES: To provide written comments or to obtain a copy of the Draft CCP/EA, please write to: Mr. Jack Bohannan, 61389 Highway 434, Lacombe, LA 70445. A copy of the Draft CCP/EA is available on both compact diskette and hard copy. You may also access and download a copy of the Draft CCP/EA at the Service's Internet Site: http://southeast.fws.gov/planning/.

FOR FURTHER INFORMATION CONTACT: Mr. Jack Bohannan; Telephone: 985/882-2026.

SUPPLEMENTARY INFORMATION: Public Availability of Comments: Before including your address, phone number, e-mail address, or other personal identifying information in your comment, you should be aware that your entire comment, including your personal identifying information, may be made publicly available at any time. While you can ask us in your comment to withhold your personal identifying information from public review, we cannot guarantee that we will be able to do so.

Background:

Significant issues addressed in the Draft CCP/EA include managing threatened and endangered species, species of concern, and other species of federal responsibility; conserving habitats and restoring wetland habitats specific to the riverine and marine environments; providing and improving refuge visitor programs; increasing public outreach; and providing environmental education programs.

Three management alternatives were considered for Delta Refuge. Alternative A would continue current management with no new actions to improve or enhance existing programs. Alternative B would focus on expanding public use activities to the fullest extent possible, including duplicating programs and opportunities offered at the adjacent wildlife management area. Alternative C, the proposed alternative, would emphasize managing natural resources based on maintaining and improving wetland habitats with improved restoration techniques; providing quality public use programs and wildlife-dependent recreational activities; and expanding the outreach program.

Three management alternatives were also considered for Breton Refuge. Alternative A would continue the present management practices with no changes or improvements. Alternative B would focus on leaving the islands to the natural processes and weather events with no active management actions. Alternative C, the proposed alternative, would emphasize working with partners to restore island habitat with large-scale projects, if considered feasible; improving outreach; and providing environmental education relating to the barrier islands to local schools.

Delta Refuge, consisting of 48,799 acres of wetlands at the mouth of the Mississippi River, was established on November 19, 1935, by Executive Order 7229.

Breton Refuge, the second oldest national wildlife refuge in the United States, is a barrier island chain in Breton and Chandeleur Sounds in the Gulf of Mexico. It was established on October 4, 1903, by Executive Order 7938, signed by President Theodore Roosevelt.

Authority: This notice is published under the authority of the National Wildlife Refuge System Improvement Act of 1997, Public Law 105-57.

Dates: August 16, 2007.
Cynthia K. Dohner,
Acting Regional Director.

Editorial Note: This document was received at the Office of the Federal Register on July 7, 2008.

[FR Doc. E8-15762 Filed 7-10-08; 8:45 am]

BILLING CODE 4310-55-P